FEDERAL COMMUNICATIONS COMMISSION

47 CFR Part 73

[FCC 01-233; MM Docket No. 95-88; RM-8641; RM-8688; RM-8689]

Radio Broadcasting Services; Rose Hill, Trenton, Aurora, and Ocracoke, NC

AGENCY: Federal Communications Commission.

ACTION: Final rule, denial.

SUMMARY: This document denies an Application for Review filed by Connor Media Corporation directed to the Report and Order in this proceeding. See 61 FR 66618, published December 18, 1996. Specifically, that action allotted Channel 283A to Aurora, North Carolina. With this action, the proceeding is terminated.

FOR FURTHER INFORMATION CONTACT: Robert Hayne, Mass Media Bureau, (202) 418-2177.

SUPPLEMENTARY INFORMATION: This is a synopsis of the Commission's Memorandum Opinion and Order in MM Docket No. 95-88, adopted August 13, 2001, and released August 17, 2001. The full text of this decision is available for inspection and copying during normal business hours in the FCC's Reference Information Center at Portals II, CY-A257, 445 12th Street, SW., Washington, DC. The complete text of this decision may also be purchased from the Commission's duplicating contractor, Qualex International, Portals ll, 445 12th Street, SW., Room CY-B402, Washington, DC 20554, telephone 202-863-2893, facsimile 202-863-2898, or via e-mail qualexint@aol.com.

List of Subjects in 47 CFR Part 73

Radio broadcasting.

Federal Communications Commission.
Magalie Roman Salas,
Secretary.

[FR Doc. 01-24954 Filed 10-4-01; 8:45 am]

BILLING CODE 6712-01-P